DEPARTMENT OF LABOR

Employment and Training Administration

Request for Comments on the Proposed Information Collection for Trade Adjustment Assistance (TAA) Reserve Funding Request Form. 1205-0275, Extension With No Revisions

AGENCY: Employment and Training Administration (ETA), Labor.

ACTION: Notice.

SUMMARY: The Department of Labor, as part of its continuing effort to reduce paperwork and respondent burden conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, ETA is soliciting comments concerning the proposed extension of data collection for the ETA Form 9117 (formerly ETA-9023), Trade Adjustment Assistance (TAA) Reserve Funding Request Form (1205-0275, expires 1/31/2010).

A copy of the proposed information collection request (ICR) can be obtained by contacting the office listed below in the addressee section of this notice.

DATES: Written comments must be submitted to the office listed in the addressee's section below on or before November 30, 2009.

ADDRESSES: Submit written comments to Chris Meservy, Program Analyst, Room C-5428, Employment and Training Administration, 200 Constitution Avenue, NW., Washington, DC 20210. Telephone number: 202-693-2806 (this is not a toll-free number). Fax: 202-693-3584. E-mail: meservy.chris.h@dol.gov.

SUPPLEMENTARY INFORMATION:

I. Background

The Trade Adjustment Assistance (TAA) program provides assistance to workers that have been adversely affected by foreign trade. Under the Trade Act of 1974, as amended by the American Recovery and Reinvestment Act of 2009, the statutory training cap is $575 million each year, with additional funding available for job search and relocation allowances and State administration. To be eligible for TAA benefits and services, a group of workers, a company official, a union or other duly authorized representative, or a One Stop Operator or partner must file a petition with the Department of Labor. If the Department determines that the workers meet the statutory criteria, it issues a certification of eligibility for the workers in the group to apply for benefits and services through partnerships between the State Workforce Agencies (SWAs) and the One Stop Career Center system.

II. Review Focus

The Department of Labor is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submissions of responses.

III. Current Actions

Type of Review: Extension with no revisions.

Title: Trade Adjustment Assistance (TAA) Reserve Funding Request.

OMB Number: 1205-0275.

Affected Public: State, local or Tribal government.

Total Respondents: 25.

Frequency: On occasion.

Forms: ETA 9117, ETA 9023.

Average Time per Response: 3 hours.

Estimated Total Burden Hours: 75.

Comments submitted in response to this ICR will be summarized and/or included in the request for Office of Management and Budget approval of the information collection request; they will also become a matter of public record.

Dated: This 23rd day of September 2009.
Jane Oates,
Assistant Secretary, Employment and Training Administration.

[FR Doc. E9-23361 Filed 9-28-09; 8:45 am]

BILLING CODE 4510-FN-P